DEPARTMENT OF HEALTH AND HUMAN SERVICES

Centers for Disease Control and Prevention

[Docket Number NIOSH-238]

Draft Alert Entitled “Preventing Occupational Respiratory Disease From Dampness in Office Buildings, Schools, and Other Nonindustrial Buildings;” Correction

A notice of draft document for public comment was published in the Federal Register, May 18, 2011, (76 FR 28789). This notice is corrected as follows:

On page 28789, second column: Under the heading “Summary” the Web site has been changed to http://www.cdc.gov/niosh/docket/review/docket238/.

Dated: May 19, 2011.
John Howard,
Director, National Institute for Occupational Safety and Health, Centers for Disease Control and Prevention.

[FR Doc. 2011-12935 Filed 5-24-11; 8:45 am]

BILLING CODE 4163-18-D